DEPARTMENT OF HEALTH AND HUMAN SERVICES

Centers for Disease Control and Prevention

[30Day-08-06BD]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC Reports Clearance Officer at (404) 639-5960 or send an e-mail to omb@cdc.gov. Send written comments to CDC Desk Officer, Office of Management and Budget, Washington, DC or by fax to (202) 395-6974. Written comments should be received within 30 days of this notice.

Proposed Project

Economic Analysis of the National Breast and Cervical Cancer Early Detection Program (NBCCEDP)—New—National Center for Chronic Disease Prevention and Health Promotion (NCDDPHP), Centers for Disease Control and Prevention (CDC).

Background and Brief Description

The CDC-funded National Breast and Cervical Cancer Early Detection Program (NBCCEDP) is the largest organized cancer screening program in the United States. The NBCCEDP provides critical breast and cervical cancer screening services to underserved women through grants to 50 states, the District of Columbia, 4 U.S. territories, and 13 American Indian/Alaska Native organizations. In the past decade, the NBCCEDP has provided over 7.2 million breast and cervical cancer screening and diagnostic exams to over 3 million low-income women. Women diagnosed with cancer through the program are eligible for Medicaid coverage through the Breast and Cervical Cancer Prevention and Treatment Act passed by Congress in 2000.

CDC proposes to collect one year of cost data from all 68 NBCCEDP grantees in order to conduct the first systematic, activity-based analysis of the costs and cost-effectiveness of the NBCCEDP. The information required to perform an activity-based cost analysis includes: Staff and consultant salaries, screening costs, contracts and material costs, provider payments, in-kind contributions, administrative costs, allocation of funds, and staff time devoted to specific program activities. Data will be collected electronically via a Web-based Cost Assessment Tool (CAT).

CDC will use information collected through the CAT to assess the costs of various program components, identify factors that impact average cost, perform cost-effectiveness analysis, and to develop a resource allocation tool for ensuring the most appropriate use of limited program resources.

NBCCEDP grantees currently report information on screening and diagnosis volumes (the effectiveness measures for the program) as part of the Minimum Data Elements (MDE)/System for Technical Assistance Reporting (STAR) (OMB 0920-0571, exp. 1/31/2010). Information to be collected through the CAT will complement information currently collected through the MDE/STAR.

There are no costs to respondents other than their time. The total estimated annualized burden hours are 1,496.

Estimated Annualized Burden Hours
Type of respondents | Number of respondents | Number of responses per respondent | Average burden per response (in hours)
NBCCEDP Grantees | 68 | 1 | 22

Dated: November 26, 2007.
Maryam I. Daneshvar,
Acting Reports Clearance Officer, Centers for Disease Control and Prevention.

[FR Doc. E7-23336 Filed 11-30-07; 8:45 am]

BILLING CODE 4163-18-P